DEPARTMENT OF AGRICULTURE

Forest Service

Notice of Mineral County Resource Advisory Committee Meeting

AGENCY: Forest Service, USDA.

ACTION: Notice of meetings.

SUMMARY: Pursuant to the authorities in the Federal Advisory Committee Act (Pub. L. 92-463) and under the Secure Rural Schools and Community Self-Determination Act of 2000 (Pub. L. 106-393) the Lolo National Forest Mineral County Resource Advisory Committee will meet on October 3 at 6 p.m. in Superior, Montana for a business meeting. The meeting is open to the public.

DATES: October 3, 2002.

ADDRESSES: The meeting will be held at the Mineral County Courthouse, 300 River Street, Superior, MT 59872.

FOR FURTHER INFORMATION CONTACT: Robert Harper, Designated Federal Official (DFO), District Ranger Superior Ranger District, Lolo National Forest at (406) 822-4233.

SUPPLEMENTARY INFORMATION: This will be the first meeting of the Mineral County Resource Committee. Agenda topics include reviewing the role of the RAC, the purpose of Title II funds and receiving public comment. If the meeting location is changed, notice will be posted in the local newspapers, including the Mineral Independent and the Missoulian.

Dated: September 11, 2002.
Robert Harper,
Designated Federal Official, District Ranger, Superior Ranger District.

[FR Doc. 02-23679 Filed 9-17-02; 8:45 am]

BILLING CODE 3410-11-M